DEPARTMENT OF TRANSPORTATION

Federal Aviation Administration

14 CFR Part 71

[Docket No. FAA-2021-1047; Airspace Docket No. 21-ASW-23]

RIN 2120-AA66

Amendment of Class D Airspace and Class E Airspace; Fort Worth and Dallas-Fort Worth, TX

AGENCY: Federal Aviation Administration (FAA), DOT.

ACTION: Final rule.

SUMMARY: This action amends the Class D airspace at Fort Worth, TX, and the Class E airspace at Dallas-Fort Worth, TX. This action is the result of an airspace review due to the cancellation of the instrument procedures and implementation of new instrument procedures at Granbury Regional Airport, Granbury, TX, contained within the Dallas-Fort Worth, TX, Class E airspace legal description. The geographic coordinates of Fort Worth Spinks Airport, Fort Worth, TX, are also being updated to coincide with the FAA's aeronautical database.

DATES: Effective 0901 UTC, November 3, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace at Fort Worth Spinks Airport, Fort Worth, TX, and the Class E airspace extending upward from 700 feet above the surface at Granbury Regional Airport, Granbury, TX, contained within the Dallas-Fort Worth, TX, airspace legal description, to support instrument flight operations at these airports.

History

The FAA published a notice of proposed rulemaking in the Federal Register (86 FR 68571; December 3, 2021) for Docket No. FAA-2021-1047 to amend the Class D airspace at Fort Worth, TX, and the Class E airspace at Dallas-Fort Worth, TX. Interested parties were invited to participate in this rulemaking effort by submitting written comments on the proposal to the FAA. No comments were received.

Class D and E airspace designations are published in paragraphs 5000 and 6005, respectively, of FAA Order JO 7400.11F, dated August 10, 2021, and effective September 15, 2021, which is incorporated by reference in 14 CFR 71.1. The Class D and E airspace designations listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Difference From the NPRM

Subsequent to publication of the NPRM, the FAA updated the term “Notice to Airmen” to “Notice to Air Missions.” As this is an administrative change and does not impact the proposed airspace, this change has been incorporated into the Fort Worth Spinks Airport, Fort Worth, TX, airspace legal description.

The Rule

This amendment to 14 CFR part 71:

Amends the Class D airspace at Fort Worth Spinks Airport, Fort Worth, TX, by updating the geographic coordinates of the airport to coincide with the FAA's aeronautical database; and updates the outdated term “Notice to Airmen” to “Notice to Air Missions;”

And amends the Class E airspace extending upward from 700 feet above the surface within an 8.8-mile (increased from a 6.3-mile) radius of Granbury Regional Airport, Granbury, TX, contained within the Dallas-Fort Worth, TX, airspace legal description; and updates the geographic coordinates of Fort Worth Spinks Airport, Fort Worth, TX, also contained within the Dallas-Fort Worth, TX airspace legal description, to coincide with the FAA's aeronautical database.

This action is necessary due to an airspace review due to the cancellation of the instrument procedures and implementation of new instrument procedures at Granbury Regional Airport.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ASW TX D Fort Worth, TX [Amended]

Fort Worth Spinks Airport, TX

(Lat. 32°33′54″ N, long. 97°18′30″ W)

That airspace extending upward from the surface up to but not including 3,000 feet MSL within a 4.1-mile radius of Fort Worth Spinks Airport, and within 1 mile each side of the 173° bearing from the airport extending from the 4.1-mile radius to 4.8 miles south of the airport. This Class D airspace area is effective during the specific dates and times established in advance by a Notice to Air Missions. The effective dates and times will thereafter be continuously published in the Chart Supplement.

Paragraph 6005 Class E Airspace Areas Extending Upward From 700 Feet or More Above the Surface of the Earth.

* * * * *

ASW TX E5 Dallas-Fort Worth, TX [Amended]

Dallas-Fort Worth International Airport, TX

(Lat. 32°53′50″ N, long. 97°02′16″ W)

McKinney National Airport, TX

(Lat. 33°10′37″ N, long. 96°35′20″ W)

Ralph M. Hall/Rockwall Municipal Airport, TX

(Lat. 32°55′50″ N, long. 96°26′08″ W)

Mesquite Metro Airport, TX

(Lat. 32°44′49″ N, long. 96°31′50″ W)

Mesquite Metro: RWY 18-LOC

(Lat. 32°44′03″ N, long. 96°31′50″ W)

Lancaster Regional Airport, TX

(Lat. 32°34′39″ N, long. 96°43′03″ W)

Point of Origin

(Lat. 32°51′57″ N, long. 97°01′41″ W)

Fort Worth Spinks Airport, TX

(Lat. 32°33′54″ N, long. 97°18′30″ W)

Cleburne Regional Airport, TX

(Lat. 32°21′14″ N, long. 97°26′02″ W)

Bourland Field, TX

(Lat. 32°34′55″ N, long. 97°35′27″ W)

Granbury Regional Airport, TX

(Lat. 32°26′40″ N, long. 97°49′01″ W)

Parker County Airport, TX

(Lat. 32°44′47″ N, long. 97°40′57″ W)

Bridgeport Municipal Airport, TX

(Lat. 33°10′26″ N, long. 97°49′42″ W)

Decatur Municipal Airport, TX

(Lat. 33°15′15″ N, long. 97°34′50″ W)

That airspace extending upward from 700 feet above the surface within a 30-mile radius of Dallas-Fort Worth International Airport, and within a 6.6-mile radius of McKinney National Airport, and within 1.8 miles each side of the 002° bearing from McKinney National Airport extending from the 6.6-mile radius to 9.2 miles north of the airport, and within a 6.3-mile radius of Ralph M. Hall/Rockwall Municipal Airport, and within 1.6 miles each side of the 010° bearing from Ralph M. Hall/Rockwall Municipal Airport extending from the 6.3-mile radius to 10.8 miles north of the airport, and within a 6.5-mile radius of Mesquite Metro Airport, and within 4 miles west and 7.9 miles east of the 001° bearing from the Mesquite Metro: RWY 18-LOC extending from the 6.5-mile radius of the Mesquite Metro Airport to 10 miles north of the Mesquite Metro: RWY 18-LOC, and within a 6.6-mile radius of Lancaster Regional Airport, and within 1.9 miles each side of the 140° bearing from Lancaster Regional Airport extending from the 6.6-mile radius to 9.2 miles southeast of the airport, and within 8 miles northeast and 4 miles southwest of the 144° bearing from the Point of Origin extending from the 30-mile radius of Dallas-Fort Worth International Airport to 35 miles southeast of the Point of Origin, and within a 6.5-mile radius of Fort Worth Spinks Airport, and within 8 miles east and 4 miles west of the 178° bearing from Fort Worth Spinks Airport extending from the 6.5-mile radius to 21 miles south of the airport, and within a 6.9-mile radius of Cleburne Regional Airport, and within 3.6 miles each side of the 292° bearing from the Cleburne Regional Airport extending from the 6.9-mile radius to 12.2 miles northwest of airport, and within a 6.5-mile radius of Bourland Field, and within a 8.8-mile radius of Granbury Regional Airport, and within a 6.3-mile radius of Parker County Airport, and within 8 miles east and 4 miles west of the 177° bearing from Parker County Airport extending from the 6.3-mile radius to 21.4 miles south of the airport, and within a 6.3-mile radius of Bridgeport Municipal Airport, and within 1.6 miles each side of the 040° bearing from Bridgeport Municipal Airport extending from the 6.3-mile radius to 10.6 miles northeast of the airport, and within 4 miles each side of the 001° bearing from Bridgeport Municipal Airport extending from the 6.3-mile radius to 10.7 miles north of the airport, and within a 6.3-mile radius of Decatur Municipal Airport, and within 1.5 miles each side of the 263° bearing from Decatur Municipal Airport extending from the 6.3-mile radius to 9.2 miles west of the airport.

Issued in Fort Worth, Texas, on August 18, 2022.
Martin A. Skinner,
Acting Manager, Operations Support Group, ATO Central Service Center.

[FR Doc. 2022-18181 Filed 8-23-22; 8:45 am]

BILLING CODE 4910-13-P